DEPARTMENT OF TRANSPORTATION

Federal Aviation Administration

14 CFR Part 39

[Docket No. FAA-2017-0560; Product Identifier 2016-NM-172-AD; Amendment 39-19028; AD 2017-18-19]

RIN 2120-AA64

Airworthiness Directives; Airbus Airplanes

AGENCY: Federal Aviation Administration (FAA), Department of Transportation (DOT).

ACTION: Final rule.

SUMMARY: We are adopting a new airworthiness directive (AD) for all Airbus Model A310-203, -204, -221, -222, -304, -322, -324, and -325 airplanes. This AD was prompted by reports of cracking in the drainage holes on the lower skin panel in the center wing box between frames (FR) 42 and FR46. This AD requires repetitive rotating probe inspections for cracking of the trellis boom drainage holes, the holes in the stringers bottom, and the holes of the inner pump, and corrective actions if necessary. We are issuing this AD to address the unsafe condition on these products.

DATES: This AD is effective October 19, 2017.

The Director of the Federal Register approved the incorporation by reference of a certain publication listed in this AD as of October 19, 2017.

ADDRESSES: For service information identified in this final rule, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com. You may view this referenced service information at the FAA, Transport Standards Branch, 1601 Lind Avenue SW., Renton, WA. For information on the availability of this material at the FAA, call 425-227-1221. It is also available on the Internet at http://www.regulations.gov by searching for and locating Docket No. FAA-2017-0560.

Examining the AD Docket

You may examine the AD docket on the Internet at http://www.regulations.gov by searching for and locating Docket No. FAA-2017-0560; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Section, Transport Standards Branch, FAA, 1601 Lind Avenue SW., Renton, WA 98057-3356; telephone 425-227-2125; fax 425-227-1149.

SUPPLEMENTARY INFORMATION:

Discussion

We issued a notice of proposed rulemaking (NPRM) to amend 14 CFR part 39 by adding an AD that would apply to all Airbus Model A310-203, -204, -221, -222, -304, -322, -324, and -325 airplanes. The NPRM published in the Federal Register on June 20, 2017 (82 FR 28030) (“the NPRM”). The NPRM was prompted by reports of cracking in the drainage holes on the lower skin panel in the center wing box between frames FR42 and FR46. The NPRM proposed to require repetitive rotating probe inspections for cracking of the trellis boom drainage holes, the holes in the stringers bottom, and the holes of the inner pump, and corrective actions if necessary. We are issuing this AD to detect and correct cracking of trellis boom drainage holes, the holes in the stringers bottom, and the holes of the inner pump, which could result in reduced structural integrity of the wings.

The European Aviation Safety Agency (EASA), which is the Technical Agent for the Member States of the European Union, has issued EASA Airworthiness Directive 2016-0196, dated September 30, 2016 (referred to after this as the Mandatory Continuing Airworthiness Information, or “the MCAI”), to correct an unsafe condition for all Airbus Model A310-203, -204, -221, -222, -304, -322, -324, and -325 airplanes. The MCAI states:

DGAC [Direction Générale de l'Aviation Civile] France issued AD F-1992-106-132R7 to require certain inspections and modifications which addressed JAR/FAR [Joint Aviation Requirements/Federal Aviation Regulations] 25-571 requirements, related to damage-tolerance and fatigue evaluation of structure. Following the Extended Design Service Goal activities as part of the Structure Task Group for the Airbus A310 program, EASA published AD 2007-0053, which replaced DGAC France AD F-1992-106-132R7.

After EASA issued AD 2007-0053R1, the thresholds and the intervals of Airbus Service Bulletins (SB) A310-57-2050 and A310-57-2064 were updated, prompting EASA to issue AD 2009-0057 [which corresponds to FAA AD 2011-10-06, Amendment 39-16687 (76 FR 27227, May 11, 2011)] and [EASA] AD 2007-0053 was revised (R2) accordingly. EASA AD 2009-0057 also required the accomplishment of the actions specified in Airbus SB A310-57-2048 at Revision 01.

After EASA issued AD 2009-0057, in the frame of the Widespread Fatigue Damage campaign, new analysis has indicated the need for additional work included in Revision 03 of Airbus SB A310-57-2050.

For the reason described above, this new [EASA] AD retains the requirements of EASA AD 2009-0057, which is superseded, and requires inspection and corrective actions as specified in Airbus SB A310-57-2050 Revision 04.

Required actions include a repetitive rotating probe inspection for cracking of certain holes in the stringers bottom, inner pumps, and the trellis boom; and corrective actions, i.e., repair of holes where cracks are discovered.

The compliance times vary depending on airplane configuration. The earliest initial inspection compliance time is 11,400 total flight cycles or 57,300 total flight hours, whichever occurs first. The latest initial compliance time is 38,700 total flight cycles or 77,500 total flight hours, whichever occurs first. The shortest repetitive interval is 6,200 flight cycles or 31,200 flight hours, whichever occurs first.

You may examine the MCAI in the AD docket on the Internet at http://www.regulations.gov by searching for and locating Docket No. FAA-2017-0560.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Airbus has issued Service Bulletin A310-57-2050, Revision 04, dated March 13, 2015. This service information describes procedures for repetitive rotating probe inspections for cracking of the trellis boom drainage holes, the holes in the stringers bottom, and the holes of the inner pump, and corrective actions. This service information is reasonably available because the interested parties have access to it through their normal course of business or by the means identified in the ADDRESSES section.

Costs of Compliance

We estimate that this AD affects 8 airplanes of U.S. registry.

We estimate the following costs to comply with this AD:

Estimated Costs
Action | Labor cost | Parts cost | Cost per product | Cost on U.S. operators
Inspection | 84 work-hours × $85 per hour = $7,140 | $5,890 | $13,030 | $104,240

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-18-19 Airbus: Amendment 39-19028; Docket No. FAA-2017-0560; Product Identifier 2016-NM-172-AD.

(a) Effective Date

This AD is effective October 19, 2017.

(b) Affected ADs

This AD affects AD 2011-10-06, Amendment 39-16687 (76 FR 27227, May 11, 2011) (“AD 2011-10-06”).

(c) Applicability

This AD applies to Airbus Model A310-203, -204, -221, -222, -304, -322, -324, and -325 airplanes, certificated in any category, all serial numbers.

(d) Subject

Air Transport Association (ATA) of America Code 57, Wings.

(e) Reason

This AD was prompted by reports of cracking in the drainage holes on the lower skin panel in the center wing box between frames (FR) 42 and FR46. We are issuing this AD to detect and correct cracking of trellis boom drainage holes, the holes in the stringers bottom, and the holes of the inner pump, which could result in reduced structural integrity of the wings.

(f) Compliance

Comply with this AD within the compliance times specified, unless already done.

(g) Rotating Probe Inspections and Corrective Actions

Except as provided by paragraph (h)(1) of this AD, before exceeding the applicable threshold or grace period, whichever occurs later, as defined in paragraph 1.E., “Compliance,” of Airbus Service Bulletin A310-57-2050, Revision 04, dated March 13, 2015, accomplish the rotating probe inspection for cracking of the trellis boom drainage holes, the holes in the stringers bottom, and the holes of the inner pump, as applicable, and do all applicable corrective actions, as specified in, and in accordance with the Accomplishment Instructions of Airbus Service Bulletin A310-57-2050, Revision 04, dated March 13, 2015, except as required by paragraph (h)(2) of this AD. Do all applicable corrective actions before further flight. Repeat the inspection thereafter at intervals not to exceed those defined in paragraph 1.E., “Compliance,” of Airbus Service Bulletin A310-57-2050, Revision 04, dated March 13, 2015.

(h) Exceptions to Service Information

(1) Where Airbus Service Bulletin A310-57-2050, Revision 04, dated March 13, 2015, specifies a grace period “after receipt of the Service Bulletin without exceeding previous Service Bulletin revision values,” this AD requires compliance within the specified grace period after the effective date of this AD.

(2) Where Airbus Service Bulletin A310-57-2050, Revision 04, dated March 13, 2015, specifies to contact Airbus for appropriate action, and specifies that action as “RC” (Required for Compliance): Before further flight, accomplish corrective actions in accordance with the procedures specified in paragraph (l)(2) of this AD.

(i) No Terminating Action for Inspections

Accomplishing corrective actions on an airplane as required by paragraph (g) or (h)(2) of this AD does not constitute terminating action for the repetitive actions required by paragraph (g) of this AD.

(j) Terminating Action

Accomplishment of the initial inspection required by paragraph (g) of this AD constitutes terminating action for the actions required by paragraph (h) of AD 2011-10-06.

(k) Credit for Previous Actions

This paragraph provides credit for actions required by paragraph (g) of this AD, if those actions were performed before the effective date of this AD using the service information specified in Airbus Service Bulletin A310-57-2050, Revision 03, dated December 19, 2014.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): Except as required by paragraph (h)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA Airworthiness Directive 2016-0196, dated September 30, 2016, for related information. This MCAI may be found in the AD docket on the Internet at http://www.regulations.gov by searching for and locating Docket No. FAA-2017-0560.

(2) For more information about this AD, contact Dan Rodina, Aerospace Engineer, International Section, Transport Standards Branch, FAA, 1601 Lind Avenue SW., Renton, WA 98057-3356; telephone 425-227-2125; fax 425-227-1149.

(3) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A310-57-2050, Revision 04, dated March 13, 2015.

(ii) Reserved.

(3) For service information identified in this AD, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 31, 2017.
Dionne Palermo,
Acting Director, System Oversight Division, Aircraft Certification Service.

[FR Doc. 2017-19042 Filed 9-13-17; 8:45 am]

BILLING CODE 4910-13-P